DEPARTMENT OF EDUCATION

[Docket No. ED-2012-ICCD-0043]

Agency Information Collection Activities; Submission to the Office of Management and Budget for Review and Approval; Comment Request: Foreign School Supplemental Application System

AGENCY: Department of Education (ED), Federal Student Aid (FSA).

ACTION: Notice.

SUMMARY: In accordance with the Paperwork Reduction of 1995 (44 U.S.C. chapter 3501 et seq.), ED is proposing a revision of an existing information collection.

DATES: Interested persons are invited to submit comments on or before November 26, 2012.

ADDRESSES: Comments submitted in response to this notice should be submitted electronically through the Federal eRulemaking Portal at http://www.regulations.gov by selecting Docket ID number ED-2012-ICCD-0043 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Beth Grebeldinger, Federal Student Aid, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Foreign School Supplemental Application System.

OMB Control Number: Pending.

Type of Review: New collection, request for a new OMB Control Number.

Respondents/Affected Public: Business or other for-profits; Not-for-profit institutions.

Total Estimated Number of Annual Responses: 70.

Total Estimated Number of Annual Burden Hours: 245.

Abstract: The Foreign School Supplemental Application System (FS SAS) is designed as a bridge system that will allow foreign school administrators to enter information directly into the system in a secure fashion and upload required documents. The FS SAS works in conjunction with the e-App system. When a foreign school is applying for initial participation, or is submitting an application for recertification or reinstatement, if the school is seeking approval of its medical, nursing or veterinary school, upon completion of the e-App, the school will be able to link to the FS SAS on the Information for Financial Aid Professionals (IFAP) Web page. Only foreign schools who are registered with Federal Student Aid and who have been issued the required two factor authentication tokens can access the FS SAS. The FS SAS allows foreign schools to upload required documentation in a portable document format (pdf) to accompany the applications and reducing the time it takes to complete the application to submit to the Foreign Schools Team for review.

Dated: October 22, 2012.
Darrin A. King,
Director, Information Collection Clearance Division, Privacy, Information and Records Management Services, Office of Management.

[FR Doc. 2012-26337 Filed 10-25-12; 8:45 am]

BILLING CODE 4000-01-P